DEPARTMENT OF THE INTERIOR

Bureau of Reclamation

Hydropower Resource Assessment at Existing Reclamation Facilities—Draft Report

AGENCIES: Bureau of Reclamation, Interior.

ACTION: Notice of availability of the draft report.

SUMMARY: The Bureau of Reclamation has made available for public review and comment the “Hydropower Resource Assessment at Existing Reclamation Facilities” (HRA) Draft Report. The HRA is an assessment of the economic and technical potential for hydropower development at existing Bureau of Reclamation (Reclamation) owned non-powered dams and structures.

DATES: Submit written comments on the Draft Report by December 6, 2010.

ADDRESSES: Send written comments or requests for copies to Mr. Michael Pulskamp, Bureau of Reclamation, Denver Federal Center, Bldg. 67, P.O. Box 25007, Denver, Colorado 80225, or e-mail to mpulskamp@usbr.gov.

The Draft Report is also accessible from the following Web site: http://www.usbr.gov/power/.

FOR FURTHER INFORMATION CONTACT: Mr. Michael Pulskamp, 303-445-2931, mpulskamp@usbr.gov.

SUPPLEMENTARY INFORMATION: The Administration is committed to increasing the generation of environmentally sustainable, affordable hydropower for our national electricity supplies. Reclamation has 476 dams and 8,116 miles of canals, and owns and operates 58 hydropower plants. On an annual basis, these plants produce an average of 40 billion kilowatt hours of electricity, enough to meet the entire electricity needs of over 9 million people on average, and provide the energy equivalent of more than 80 million barrels of crude oil or about 48.4 billion pounds of coal. Reclamation is the second largest producer of hydroelectric power in the United States, and is actively engaged in looking for opportunities to encourage development of additional hydropower capacity.

In March 2010 Reclamation signed a Memorandum of Understanding (MOU) with the Department of Energy and the U.S. Army Corps of Engineers. The MOU focuses on ways to increase renewable energy generation by focusing on development of sustainable, low impact, and small hydropower projects. The MOU committed Reclamation to produce an updated list of facilities and sites best suited for projects to increase sustainable hydropower generation by October 2010. The HRA provides information on potential hydropower development at existing Reclamation facilities that may warrant further study.

The Draft Report does not make any recommendations for development of the sites included in the report. Instead, it provides an inventory of hydropower potential at existing Reclamation sites using broad energy and economic criteria. Reclamation is not undertaking a new dam construction initiative with this study, and is focused on identifying the hydropower potential of Reclamation's existing structures. This resource assessment level study does not take the place of a site by site feasibility study.

Public Disclosure

Before including your name, address, phone number, e-mail address, or other personal identifying information in your comment, you should be aware that your entire comment—including your personal identifying information—may be made publicly available at any time. While you can ask us in your comment to withhold your personal identifying information from public review, we cannot guarantee that we will be able to do so.

Dated: October 26, 2010.
Dave Sabo,
Acting Director, Technical Resources, Bureau of Reclamation.

[FR Doc. 2010-27908 Filed 11-3-10; 8:45 am]

BILLING CODE 4310-MN-P